DEPARTMENT OF AGRICULTURE

Forest Service

Wallowa-Whitman National Forest, Baker County, OR; Snow Basin Vegetation Management Project

AGENCY: Forest Service, USDA.

ACTION: Notice of intent to prepare an environmental impact statement.

SUMMARY: The USDA Forest Service will prepare an environmental impact statement (EIS) to disclose environmental effects on a proposed action to manage fuels and vegetation and produce forest products in the Little Eagle Creek, and Eagle Creek Paddy subwatersheds. The Snow Basin Vegetation Management Project is located on the Wallowa-Whitman National Forest, Whitman Ranger District, Pine Office, Baker County, Oregon. The legal location is T.7S, R.44E, all sections, and T.8S, R44E, most sections. The project area encompasses two subwatersheds located north and northwest of Halfway and Richland, Oregon, consisting of approximately 27,680 acres of National Forest System (NFS) lands, 281 acres of Baker County inholdings, and 2,107 acres of private deeded inholdings. The proposed action would use commercial harvest of timber, noncommercial thinning, aspen restoration and prescribed fire on approximately 17,200 acres. No new permanent road construction would occur, but temporary roads would be constructed, existing permanent roads would be reconstructed as warranted, and one existing bridge would be reconstructed. No Inventoried Roadless Areas (IRAs) or potential wilderness areas are affected by this project. Additional details of the proposed action are noted below in the SUPPLEMENTARY INFORMATION Section.

DATES: Preliminary comments concerning the Snow Basin Vegetation Management Project would be most useful if received by January 30, 2009. A Draft EIS (DEIS) would be completed after reviewing the preliminary scoping comments for significant issues and the potential development of alternatives to the proposed action. The DEIS is expected to be filed with the Environmental Protection Agency (EPA) and be available to the public for review by May 2009. The Final EIS is scheduled to be completed by October 2009. If approved, the project would begin to be implemented sometime in 2010.

ADDRESSES: Send written comments to: Ken Anderson, Whitman District Ranger P.O. Box 947, 3285 11th Street, Baker City, OR 97814. Send electronic comments to: comments-pacificnorthwest-wallowa-whitman-whitmanunit@fs.fed.us. Send FAX comments to 541-742-6705. Please reference the project name (Snow Basin Vegetation Management Project) on your submissions.

FOR FURTHER INFORMATION CONTACT: Joe Sciarrino, Project Manager, Whitman Ranger District, Pine Office, 38470 Pine Town Lane, Halfway, Oregon 97834, telephone 541-742-6714, TDD (541) 523-1405, e-mail jsciarrino@fs.fed.us. An additional contact is Lynne Smith, telephone 541-742-6715, e-mail lksmith@fs.fed.us. Additional information and large-scale color maps will be posted on the Forest Web site at: http://www.fs.fed.us/r6/w-w/projects/.

SUPPLEMENTARY INFORMATION:

Background Information

The project area is located north and northwest of Richland, Oregon, in Townships 6, 7 and 8 South, Ranges 43, 44, and 45 East. The project area includes 26,730 acres of NFS (National Forest System) lands and 2,107 acres of private deeded in-holdings. A small amount of Baker County owned lands (281 acres) also occur within the project area. Elevations within the project area range from approximately 4,400 feet on the southern boundary near Sparta Butte and Forshey Meadow up to approximately 6,500 feet at its northern boundary near the Eagle Cap Wilderness. The Eagle Creek Wild and Scenic River Corridor averages 3,200 feet in elevation and roughly divides the project area in half. Other major streams within the project area include Little Eagle, Twin Bridges, Conundrum, Spring, Paddy, Gold, Packsaddle, Holcomb, Empire Gulch, and Dempsey.

The project area is characterized by a mixture of forest and natural openings of various sizes. The forested stands range from high elevation subalpine fir/lodgepole pine to low elevation pure ponderosa pine. Coniferous tree species are ponderosa pine, grand fir, Douglas-fir, western larch, Englemann spruce, subalpine fir, and lodgepole pine. Deciduous tree species include quaking aspen and black cottonwood. The majority of the forested stands have a dense multistory stand structure.

The project area has seen management activity in the past, with the most recent being connected to three large vegetation management projects: Little Eagle, EagleHolcomb and Eagle-Paddy projects. These past actions included timber harvest, noncommercial thinning and fuels treatments including hand and machine piling, aspen restoration and prescribed fire, and were completed in the late 1990s. While the focus of these most recent projects were stand prioritization based upon silvicultural need, including tree species composition, stand structure and stand density, earlier projects were much more focused on cutting larger, high value trees. The Snow Basin Vegetation Management Project would be focused on a landscape view with the analysis and treatments based on landscape ecological needs.

Purpose and Need for Action

The purpose and need for this proposal is to begin moving the project area landscape toward the historic range of variability for the various biophysical environments in the project area, and to substantially reduce the risk of uncharacteristic wildfire, and the wildfire threat to life and property; particularly in the vicinity of the deeded land in-holdings.

The NFS lands in the project area have been managed with timber harvest for many decades. The focus of historic treatments was to harvest the large, mature overstory trees, particularly those of high value like ponderosa pine. The focus of more recent projects was silvicultural needs, but the treatments were located in selected stands and scattered throughout the landscape. The assumption and expectation was that stands would be treated every 10 years, providing a management and maintenance regime supporting maximum tree growth. The 10-year follow-up treatments, however, were not initiated and stand conditions and landscape conditions have changed. In addition, the natural role of fire has been generally excluded from this landscape.

As a cumulative result, landscape conditions are now characterized by deviations from the historic range of variability for the various biophysical environments. More specifically, this has resulted in a large scale reduction in large diameter ponderosa pine trees, a reduced LOS (late old structure), and domination of the faster growing shade tolerant grand fir and Douglas-fir. A very high risk of uncharacteristic wildfire exists, both because of stand structures and fire/fuels condition classes. Therefore, actions needed to meet the purpose and need involve:

1. Restoring characteristic and sustainable stand densities, tree species composition, and forest stand structure by:

• Managing stand density to improve diameter growth rates towards future LOS (late old structure), increasing stand resistance to wildfire and inherent ponderosa pine's resistance to bark beetles.

• Adjusting tree species composition and stand structure by selecting for removal tree species that serve as hosts for defoliating insects and root and stem disease, and species that are susceptible to fire.

• Converting multiple-story stands to single-story stands to increase landscape diversity, helping to reduce the extent and severity of disturbance and to restore HRV.

2. Moving Fire Regime Condition Classes 3 and 2 to Condition Class I by:

• Adjusting stand structures as in #1 above.

• Reducing natural fuel loadings commensurate to the standards established for the specific biophysical environments.

• Managing activity (vegetation management generated) fuels also to the standards established for the specific biophysical environments.

3. Placing priority on treating the NFS lands in and adjacent to Sparta and Surprise Springs WUI's and one stand in the Carson WUI. Treatments would emphasize a reduction in the risk of uncharacteristic wildfire over an improvement in HRV to reflect the emphasis on protection of life and property in the WUI areas. The priority treatments include:

• Treating the NFS lands identified in the CWPP (Community Wildfire Protection Plan) adopted by Baker County.

• Treating other adjacent NFS lands that would help decrease the potential for intense fire behavior adjacent to homes and private property.

4. Initiating treatments to restore quaking aspen across the landscape to better reflect historic conditions. Aspen historically occurred as dense even-aged stands or clones usually seral to one of the fir or other coniferous climax species. Today aspen exists as scattered individuals or small clumps many of which are overtopped by conifers (Eagle Creek Watershed Assessment, 1997). Estimates suggest that aspen trees historically covered 500 to 1,000 acres across the Pine and Eagle Creek watersheds. Actual current acreage is unknown but is estimated at 200 to 500 acres. Aspen stands not only provide habitat for many wildlife species, they also provide vegetative diversity and aesthetic beauty. More specifically, restoring quaking aspen involves removing all conifer competition with the exception of mature (orange bark) ponderosa pine greater than 21″ dbh and Douglas-fir greater than 32″.

5. In addition to the primary purposes of creating sustainability and improving forest health and decreasing risk of uncharacteristic wildfire, the project offers the opportunity to market and expand the availability of economically and socially important forest products, not only the traditional sawlog and pulp components, but also general biomass and fuel wood. While the purpose and need for treatments are ecological, the result is forest products. Demands for forest products continue to increase, and environmental impacts from the use of alternative materials or imported products can be significant. The project area is large and includes easy access from two rural communities, Halfway and Richland, Oregon, which provides an opportunity to offer substantial quantities of fuelwood. Since many local citizens rely on fuelwood as their primary source of heat, particularly now with the rising fossil fuel prices, the public is asking for increased fuelwood opportunities. To support this need, emphasis is being placed on, and consideration given to modifying the current Forest-wide policy for the project area to allow the removal as fuelwood any dead and down trees of any species and any size tree within 150 feet of an open road, as long as it is in compliance with all other existing permit requirements.

Proposed Action

The Proposed Action, on NFS lands only, is to:

1. Commercially harvest 13,887 acres using a combination of overstory removal, partial removal, sanitation, thinning, and regeneration cuts, with a potential yield of 60-70 MIMBF. This project would potentially generate 5 timber sales that would be offered one per year over a 5-year period starting in 2010, if the project is approved.

2. Remove conifer competition from 30 acres of quaking aspen.

3. Non-commercially thin approximately 12,200 acres (NCT only and NCT following harvest treatments).

4. Prescribed fire only on 3,300 acres.

5. Prescribed fire on 12,000-13,000 acres to reduce commercial harvest activity fuels following commercial treatments.

6. Grapple pile and burn on approximately 7,220 acres to reduce commercial harvest activity fuels following commercial treatments.

7. Remove Danger Trees from the open road system for public and forest worker safety. This would include their commercial removal for biomass. Danger trees are defined as as a standing tree that presents a safety hazard to people due to conditions such as deterioration or physical damage to the root system, trunk, stem, or limbs, and the direction (or lean) of the tree. Those removed would meet the definition as described in “Field guide for danger trees identification and response” 2008. Toupin. R., et al. USDA For. Ser. Pac. Northwest Region.

8. Within the project area, use an estimated 180 miles of existing National Forest System Road (NFS) for commercial log haul. No new permanent specified road construction is planned. Approximately 10.6 miles of temporary road construction is proposed. These temporary roads are in 46 segments ranging in length from less than 0.1 mile to 0.7 miles, and the average length is 0.2 miles. All NFS roads would be maintained in accordance with standard timber sale road maintenance specifications. Of the estimated 180 miles of haul roads, approximately 100 miles are currently closed roads (maintenance level 1) and would be re-closed when harvest and post-sale activities, including firewood gathering, are completed. Temporary roads would be closed and rehabilitated prior to the closure of the timber sale. Reconstruction is proposed on approximately 48 miles of NFS roads. Here, the term reconstruction refers to road work outside the scope of timber sale maintenance specifications and would be listed in the timber sale contract for specified road reconstruction and applicable to contract clause BT 5.2. Types of activity included under reconstruction include a bridge replacement (0.1 mi); repair of abutments on two bridges (0.2 mi.); realign road location which would create new ground disturbance (1.0 mi); restore roads to a serviceable standard by clearing heavily overgrown roads, removing slides and slough and repairing slumps greater than 10 cubic yards, repairing and improving drainage structures, drainage and subgrade reinforcement for seeps and springs, and rock surfacing (46.7 miles). Of the roads proposed for reconstruction, approximately 21 miles are currently closed roads (maintenance level 1) and 27 miles are open roads maintained for high clearance vehicles (maintenance level 2). Reconstruction is also proposed (by agreement) for 2.4 miles of a Baker County road consisting of clearing, drainage, and rock surfacing. This project will consider the decommissioning of approximately 6 miles of NFS road. These roads are currently closed and will be analyzed for future need to the transportation system. If decommissioned, the roads would be removed from the NFS road system.

9. Preliminary analysis indicates that selecting the proposed action would require several amendments to the Forest Plan. All center around the harvest of live trees greater than or equal to 21″ dbh. In 1994, Forest Plan Amendment #2 imposed a 21 inch diameter limit for green tree harvest. In June 2003 the FS Region 6 Regional Forester issued a letter emphasizing the need for some flexibility in applying this standard. Examples provided where Forest Plan amendments may be appropriate are listed below. All were incorporated into the Proposed Action and include the following:

1. Moving multi-layered ponderosa pine stands towards LOS of a single layer where the pine are competing with grand fir or other shade-tolerant species historically held in check by wildfire.

2. Maintaining shade-intolerant desirable trees <21 inch d.b.h. where their recruitment into >21 inch class is reasonably foreseeable in the near future, and when giving preference better meets LOS objectives.

3. Harvesting >21 inch d.b.h. mistletoe-infected trees when doing so best meets longterm LOS objectives and does not eliminate currently important wildlife habitat.

4. Fuel reduction to protect older trees (e.g. removal of smaller “ladder” fuels).

5. Overstory removal of shade tolerant species to protect rare or declining understory elements, such as aspen or rare herbaceous plants.

Possible Alternatives

Alternatives will include the proposed action, no action, and any additional alternatives that would respond to any significant issues generated during the scoping process. The agency will give notice of the full environmental analysis and decision-making process to interested and affected people, agencies, Tribal governments and organizations.

Responsible Official and Nature of Decision To Be Made

The Responsible Official is Steven A. Ellis, Forest Supervisor of the Wallowa-Whitman National Forest, P.O. Box 907, 1550 Dewey Avenue, Baker City, Oregon 97814. The Responsible Official will decide if the proposed project will be implemented and will document the decision and reasons for the decision in a Record of Decision. That decision would be subject to Forest Service Appeal Regulations at 36 CFR 215.

Scoping Process

Public participation will be especially important at several points during the analysis, beginning with the scoping process (40 CFR 1501.7). The Snow Basin Vegetation Management Project has been listed in the Wallowa-Whitman National Forest's Schedule of Proposed Actions since July 2008, and can be accessed on the Web at: http://www.fs.fed.us/sopa/forest-level.php?110616. A scoping letter will be sent out to the Forest scoping mail list to correspond with the publication of this NOT in the Federal Register. Additional information and large-scale color maps will be posted on the Forest Web site at: http://www.fs.fed.us/r6/w-w/projects/. Tribal governments, government agencies, organizations and individuals who have indicated their interest will be contacted during the scoping period.

Preliminary Issues

Preliminary issues identified include commercial harvest in LOS stands and harvest of trees over 21 inches in diameter. Additional issues may include the potential effect of the proposed action on soils, water quality and fish habitat, snags and down wood, disturbance to cultural resources, potential for noxious weed expansion, and threatened, endangered and sensitive aquatic, terrestrial and plant species.

No Inventoried Roadless Areas (IRAs) or potential wilderness areas are affected by this proposed action.

Public Comment

Public comments about this proposal are requested to identify issues and alternatives to the proposed action and to focus the scope of the analysis. Comments received in response to this solicitation, including names and addresses of those who comment, will be considered part of the public record on this proposed action, and will be available for public inspection. Comments submitted anonymously will be accepted and considered; however, those who submit anonymous comments will not have standing to appeal the subsequent decisions under 36 CFR Parts 215 or 217. Additionally, pursuant to 7 CFR 1.27(d), any person may request the agency to withhold a submission from the public record by showing how the Freedom of Information Act (FOIA) permits such confidentiality. Persons requesting such confidentiality should be aware that under the FOIA, confidentiality may be granted in only very limited circumstances such as to protect trade secrets. The Forest Service will inform the requester of the agency's decision regarding the request for confidentiality, and where the request is denied; the agency will return the submission and notify the requester that the comments may be resubmitted with or without name and address within a specified number of days.

Early Notice of Importance of Public Participation in Subsequent Environmental Review:

A draft environmental impact statement will be prepared for comment and is expected in May of 2009. The formal comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

Comments received, including the names and addresses of those who comment, will be considered part of the public record on this proposal and will be available for public inspection.

(Authority: 40 CFR 1501.7 and 1508.22; Forest Service Handbook 1909.15, Section 21).

Dated: December 3, 2008.
Steven A. Ellis,
Forest Supervisor, Wallowa-Whitman National Forest.

[FR Doc. E8-29131 Filed 12-11-08; 8:45 am]

BILLING CODE 3410-11-M